NATIONAL SCIENCE FOUNDATION

Advisory Committee for Environmental Research And Education; Notice of Meeting

In accordance with the Federal Advisory Committee Act (Pub. L. 92-463, as amended), the National Science Foundation announces the following meeting:

Name: Advisory Committee for Environmental Research and Education (9487).

Dates:September 8, 2011, 8:30 a.m.-5 p.m.

September 9, 2011, 8:30 a.m.-2 p.m.

Place: Stafford I, Room 1235, National Science Foundation, 4201Wilson Blvd., Arlington, Virginia 22230.

Type of Meeting: Open.

Contact Person: Beth Zelenski, National Science Foundation, Suite 705, 4201 Wilson Blvd, Arlington, Virginia 22230. Phone 703-292-8500.

Minutes: May be obtained from the contact person listed above.

Purpose of Meeting: To provide advice, recommendations, and oversight concerning support for environmental research and education.

Agenda

September 8, 2011

• Update on NSF environmental research and education activities;

• Update on national and international collaborations;

• Meeting with the NSF Director.

September 9, 2011

• Update on NSF's Science, Engineering and Education for Sustainability portfolio (SEES).

Dated: August 2, 2011.
Susanne Bolton,
Committee Management Officer.

[FR Doc. 2011-19864 Filed 8-4-11; 8:45 am]

BILLING CODE 7555-01-P